DEPARTMENT OF HEALTH AND HUMAN SERVICES

Administration on Aging

2005 White House Conference on Aging; Notice of Policy Committee Listening Session for Presentations by Individuals Attending the Florida Conference on Aging

Pursuant to Section 10(a) of the Federal Advisory Committee Act as amended (5 U.S.C. Appendix 2), notice is hereby given of the following listening session. The listening session will be open to the public, with attendance limited to space available.

Summary: As the Baby Boom generation approaches retirement age, it is essential that we develop policies to ensure that this national resource remains a vital part of society. The 2005 White House Conference on Aging is conducting its first listening session outside Washington, DC, and needs your input as we develop an agenda for the 2005 Conference. How can we enable seniors to continue actively participating in and contributing to community and national well-being? Looking forward over the next decade and beyond, how can we, as individuals, businesses, private organizations, and government, in partnership, harness the vast potential that exists within an aging America?

We are particularly interested in the following key issue areas: planning along the lifespan, employment, our environment, health and long-term living, social engagement, and the marketplace. This listening session is open to everyone (no registration fee required). Priority will be given to speakers from the Florida Conference on Aging, and if time permits, the general public will be offered the opportunity to speak. Speakers may register either in advance of the listening session or onsite prior to the beginning of the session. Speakers will be limited to five minutes maximum although there may be follow-up questions from members of the panel; there will be no questions taken from the audience. Accompanying written statements will be limited to five pages. Speakers will be called to the podium in the order they register. If time is available after all registered speakers are finished, non-registered speakers will be recognized. Selected speakers may be contacted by Conference staff and asked to elaborate on their presentations, or asked to provide additional written materials.

Contact Person: To register in advance, send an e-mail not later than August 25 to Nora Andrews at nora.andrews@aoa.gov, stating name, organization, very brief description of the organization's purpose, mailing address, e-mail address, telephone number, subject to be presented, and whether or not you will be providing a written statement with your presentation. It is recommended that written statements be submitted with your registration by August 25. For further information call (202) 357-0149.

Meeting Date: Monday, August 30, 2004, from 12:30 p.m. to 2:30 p.m.

Addresses: InterContinental Hotels, Windsor Room; 100 Chopin Plaza, Miami, FL 33131.

Dated: August 17, 2004.
Josefina G. Carbonell,
Assistant Secretary for Aging.

[FR Doc. 04-19209 Filed 8-20-04; 8:45 am]

BILLING CODE 4154-01-P